DEPARTMENT OF ENERGY

Federal Energy Regulatory Commission

[Project No. 785-018]

Consumers Energy Company; Notice Soliciting Scoping Comments

October 15, 2008.

Take notice that the following hydroelectric application has been filed with the Commission and is available for public inspection.

a. Type of Application: New License.

b. Project No.: 785-018.

c. Date filed: April 4, 2008.

d. Applicant: Consumers Energy Company.

e. Name of Project: Calkins Bridge Hydroelectric Project.

f. Location: On the Kalamazoo River in Allegan County, Michigan. The project does not affect federal lands.

g. Filed Pursuant to: Federal Power Act 16 U.S.C. 791 (a)-825(r).

h. Applicant Contact: James R. Coddington, Consumers Energy Company, One Energy Plaza, Jackson, MI 49201, (517) 788-2455.

i. FERC Contact: Timothy Konnert, (202) 502-6359 or timothy.konnert@ferc.gov.

j. Deadline for filing scoping comments: November 14, 2008.

All documents (original and eight copies) should be filed with: Kimberly D. Bose, Secretary, Federal Energy Regulatory Commission, 888 First Street, NE., Washington, DC 20426.

k. This application has been accepted, but is not ready for environmental analysis at this time.

l. As licensed, the existing Calkins Bridge Project consists of a 42-foot-high, 1,330-foot-long dam, consisting of 1,100 feet of earth embankment and a 230-foot concrete integral powerhouse-spillway section, creating an 8.5-mile-long, 1,550-acre reservoir with a normal water surface elevation of 615.0 feet above mean sea level, a powerhouse containing three generating units with a total installed capacity of 2,550 kilowatts, and appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov/docs-filing/esubscription.asp to be notified via e-mail of new filings and issuances related to this or other pending projects. For assistance, contact FERC Online Support.

o. Scoping Process

The Commission staff intends to prepare a single environmental assessment (EA) for the Calkins Bridge Hydroelectric Project in accordance with the National Environmental Policy Act. The EA will consider both site-specific and cumulative environmental impacts and reasonable alternatives to the proposed action.

Commission staff does not propose to conduct any on-site scoping meetings at this time. Instead, we are soliciting comments, recommendations, and information on the scoping document issued on October 15, 2008.

Copies of the scoping document outlining the subject areas to be addressed in the EA were distributed to the parties on the Commission's mailing list and the applicant's distribution list. Copies of the scoping document may be viewed on the Web at http://www.ferc.gov using the “eLibrary” link. Enter the docket number excluding the last three digits in the docket number field to access the document. For assistance, call 1-866-208-3676, or for TTY, (202) 502-8659.

Kimberly D. Bose,
Secretary.

[FR Doc. E8-25089 Filed 10-21-08; 8:45 am]

BILLING CODE 6717-01-P